DEPARTMENT OF ENERGY

Federal Energy Regulatory Commission

[Docket No. RP00-199-000]

Reliant Energy Gas Transmission Company; Notice of Cancellation of Technical Conference

April 21, 2000.

Take notice that the technical conference scheduled for Tuesday, May 2, 2000, at 9:30 am, has been canceled. The conference will be rescheduled at a later date.

David P. Boergers,
Secretary.

[FR Doc. 00-10473 Filed 4-26-00; 8:45 am]

BILLING CODE 6717-01-M